FEDERAL ELECTION COMMISSION

[Notice 2017-03]

Filing Dates for the California Special Election in the 34th Congressional District

AGENCY: Federal Election Commission.

ACTION: Notice of filing dates for special election.

SUMMARY: California has scheduled a Special General Election on April 4, 2017, to fill the U.S. House of Representatives seat in the 34th Congressional District vacated by Representative Xavier Becerra. Under California law, a majority winner in a special election is declared elected. Should no candidate achieve a majority vote, a Special Runoff Election will be held on June 6, 2017, between the top two vote-getters.

Political committees participating in the California special elections are required to file pre- and post-election reports. Filing deadlines for these reports are affected by whether one or two elections are held.

FOR FURTHER INFORMATION CONTACT: Ms. Elizabeth S. Kurland, Information Division, 999 E Street, NW., Washington, DC 20463; Telephone: (202) 694-1100; Toll Free (800) 424-9530.

SUPPLEMENTARY INFORMATION:

Principal Campaign Committees

All principal campaign committees of candidates who participate in the California Special General and Special Runoff Elections shall file a 12-day Pre-General Report on March 23, 2017; a 12-day Pre-Runoff Report on May 25, 2017; and a 30-day Post-Runoff Report on July 6, 2017. (See charts below for the closing date for each report.)

If only one election is held, all principal campaign committees of candidates in the Special General Election shall file a 12-day Pre-General Report on March 23, 2017; and a 30-day Post-General Report on May 4, 2017. (See charts below for the closing date for each report.)

Note that these reports are in addition to the campaign committee's regular quarterly filings. (See charts below for the closing date for each report).

Unauthorized Committees (PACs and Party Committees)

Political committees filing on a semi-annual basis in 2017 are subject to special election reporting if they make previously undisclosed contributions or expenditures in connection with the California Special General Election and/or Special Runoff Election by the close of books for the applicable report(s). (See charts below for the closing date for each report.)

Committees filing monthly that make contributions or expenditures in connection with the California Special General or Special Runoff Election will continue to file according to the monthly reporting schedule.

Additional disclosure information in connection with the California Special Election may be found on the FEC Web site at http://www.fec.gov/info/report_dates.shtml.

Disclosure of Lobbyist Bundling Activity

Principal campaign committees, party committees and Leadership PACs that are otherwise required to file reports in connection with the special elections must simultaneously file FEC Form 3L if they receive two or more bundled contributions from lobbyists/registrants or lobbyist/registrant PACs that aggregate in excess of $17,900 during the special election reporting periods. (See charts below for closing date of each period.) 11 CFR 104.22(a)(5)(v), (b).

Calendar of Reporting Dates for California Special Election
Report | Close of Books ¹ | Reg./Cert. and Overnight Mailing Deadline | Filing Deadline
If Only the Special General Is Held (04/04/17), Quarterly Filing Committees Involved Must File:
Pre-General | 03/15/17 | 03/20/17 | 03/23/17
April Quarterly | 03/31/17 | 04/15/17 | ²04/15/17
Post-General | 04/24/17 | 05/04/17 | 05/04/17
July Quarterly | 06/30/17 | 07/15/17 | ²07/15/17
If Only the Special General Is Held (04/04/17), Semi-Annual Filing Committees Involved Must File:
Pre-General | 03/15/17 | 03/20/17 | 03/23/17
Post-General | 04/24/17 | 05/04/17 | 05/04/17
Mid-Year | 06/30/17 | 07/31/17 | 07/31/17
If Two Elections Are Held, Quarterly Filing Committees Involved Only in the Special General (04/04/17) Must File:
Pre-General | 03/15/17 | 03/20/17 | 03/23/17
April Quarterly | 03/31/17 | 04/15/17 | ²04/15/17
If Two Elections Are Held, Semi-Annual Filing Committees Involved Only in the Special General (04/04/17) Must File:
Pre-General | 03/15/17 | 03/20/17 | 03/23/17
Mid-Year | 06/30/17 | 07/31/17 | 07/31/17
Quarterly Filing Committees Involved in the Special General (04/04/17) and Special Runoff (06/06/17) Must File:
Pre-General | 03/15/17 | 03/20/17 | 03/23/17
April Quarterly | 03/31/17 | 04/15/17 | ²04/15/17
Pre-Runoff | 05/17/17 | 05/22/17 | 05/25/17
Post-Runoff | 06/26/17 | 07/06/17 | 07/06/17
July Quarterly | Waived
October Quarterly | 09/30/17 | 10/15/17 | ²10/15/17
Semi-Annual Filing Committees Involved in the Special General (04/04/17) and Special Runoff (06/06/17) Must File:
Pre-General | 03/15/17 | 03/20/17 | 03/23/17
Pre-Runoff | 05/17/17 | 05/22/17 | 05/25/17
Post-Runoff | 06/30/17 | 07/22/17 | 07/22/17
Mid-Year | Waived
Year-End | 12/31/17 | 01/31/18 | 01/31/18
Quarterly Filing Committees Involved Only in the Special Runoff (06/06/17) Must File:
Pre-Runoff | 05/17/17 | 05/22/17 | 05/25/17
Post-Runoff | 06/26/17 | 07/06/17 | 07/06/17
July Quarterly | Waived
October Quarterly | 09/30/17 | 10/15/17 | ²10/15/17
Semi-Annual Filing Committees Involved Only in the Special Runoff (06/06/17) Must File:
Pre-Runoff | 05/17/17 | 05/22/17 | 05/25/17
Post-Runoff | 06/30/17 | 07/22/17 | 07/22/17
Mid-Year | Waived
Year-End | 12/31/17 | 01/31/18 | 01/31/18
¹ The reporting period always begins the day after the closing date of the last report filed. If the committee is new and has not previously filed a report, the first report must cover all activity that occurred before the committee registered as a political committee up through the close of books for the first report due.
² Notice that this filing deadline falls on a weekend or federal holiday. Filing deadlines are not extended when they fall on nonworking days. Accordingly, reports filed by methods other than registered, certified or overnight mail must be received by close of business on the last business day before the deadline.

Dated: February 2, 2017.
On behalf of the Commission.
Steven T. Walther,
Chairman, Federal Election Commission.

[FR Doc. 2017-03091 Filed 2-15-17; 8:45 am]

BILLING CODE 6715-01-P